DEPARTMENT OF AGRICULTURE

Animal and Plant Health Inspection Service

[Docket No. APHIS-2025-0029]

Petitions Seeking Determination of Nonregulated Status; Notice of Intent of Withdrawal of Notices of Intent

AGENCY: Animal and Plant Health Inspection Service, USDA.

SUMMARY: This notice advises the public that the Animal and Plant Health Inspection Service (APHIS) of the United States Department of Agriculture (USDA) is withdrawing notices of intent to prepare environmental impact statements for two petitions seeking determinations of nonregulated status for organisms developed using genetic engineering. APHIS' decision to withdraw the notices of intent is consistent with APHIS' July 9, 2025 Program Update that as of that date, APHIS will no longer prepare an analysis under the National Environmental Policy Act to accompany its review of petitions seeking a determination of nonregulated status. This document provides public notice of this withdrawal.

DATES: On August 18, 2025, the notice of intent to prepare an environmental impact statement published in the Federal Register on April 28, 2021 (86 FR 22384-22386, Docket No. APHIS-2020-0021) and the notice of intent to prepare an environmental impact statement published in the Federal Register on August 6, 2021 (86 FR 43160-43162, Docket No. APHIS-2020-0030) are withdrawn.

FOR FURTHER INFORMATION CONTACT: Mr. Joseph Tangredi, Biotechnology Regulatory Services, APHIS, USDA, 5601 Sunnyside Avenue, AP100-3-1106, Beltsville, MD 20705; (301) 851-4061; email: joseph.tangredi@usda.gov.

SUPPLEMENTARY INFORMATION:

Background

On April 28, 2021, the Animal and Plant Health Inspection Service (APHIS) published in the Federal Register a notice of intent (86 FR 22384-22386; Docket No. APHIS-2020-0021) to prepare an environmental impact statement (EIS) for Determination of Nonregulated Status for Maize Developed Using Genetic Engineering for Dicamba, Glufosinate, Quizalofop, and 2,4-Dichlorophenoxyacetic Acid Resistance, With Tissue-Specific Glyphosate Resistance Facilitating the Production of Hybrid Maize Seed.

On August 6, 2021, APHIS published in the Federal Register a notice of intent (86 FR 43160-43162; Docket No. APHIS-2020-0030) to prepare an EIS for Determination of Nonregulated Status for Blight-Tolerant Darling 58 American Chestnut (Castanea Dentata) Developed Using Genetic Engineering.

APHIS is providing the public with notice of its withdrawal of the notices of intent to prepare EIS's for the aforementioned two petitions seeking determinations of nonregulated status for organisms developed using genetic engineering. Since publication of these notices of intent, two recent developments informed this decision and the need for this notice.

First, on July 3, 2025, the United States Department of Agriculture (USDA) issued an Interim Final Rule (90 FR 29632-29674) that amongst other changes, revised, moved and republished, or removed portions of USDA's existing National Environmental Policy Act (NEPA) regulations in 7 CFR part 1b as well as added new portions to those regulations that apply USDA-wide. New 7 CFR 1b.7(b)(3) requires USDA subcomponents to publish a notice of intent in the Federal Register if a decision is made to withdraw the intent to complete an EIS.

Second, on July 9, 2025, APHIS published a Program Update titled “APHIS Announces Update to Practices for Reviewing Petitions Seeking a Determination of Nonregulated Status for Organisms Altered or Produced Through Genetic Engineering”.¹ In this Program Update, APHIS stated that as of July 9, 2025, when evaluating a petition seeking a determination of nonregulated status that meets the information requirements in 7 CFR 340.6, APHIS will first determine whether a modified organism is subject to regulation under 7 CFR part 340 and the plant pest provisions in the Plant Protection Act. If APHIS determines that a modified organism is unlikely to pose a greater plant pest risk relative to its comparator and, as such, is not a plant pest, APHIS will end its review and, because it lacks jurisdiction over the modified organism, APHIS must issue a determination that the modified organism is not subject to 7 CFR part 340.

¹ The Program Update is available at https://www.aphis.usda.gov/news/program-update/aphis-announces-update-practices-reviewing-petitions-seeking-determination.

Therefore, in accordance with the Program Update, APHIS will no longer prepare an analysis under NEPA to accompany its review of petitions seeking determination of nonregulated status. As such, APHIS is providing the public with notice that it is withdrawing the notices of intent to prepare EIS's in accordance with new 7 CFR 1b.7(b)(3) for two petitions seeking determinations of nonregulated status for organisms developed using genetic engineering under 7 CFR part 340.

Done in Washington, DC.
Sarah Helming,
Acting Administrator, Animal and Plant Health Inspection Service.

[FR Doc. 2025-15702 Filed 8-15-25; 8:45 am]

BILLING CODE 3410-34-P